NUCLEAR REGULATORY COMMISSION

Advisory Committee on Reactor Safeguards (ACRS) Meeting of the Subcommittee on AP1000; Notice of Meeting

The ACRS Subcommittee on AP1000 will hold a meeting on October 31, 2007, Room T-2B3, 11545 Rockville Pike, Rockville, Maryland.

The entire meeting will be open to public attendance.

The agenda for the subject meeting shall be as follows:

Wednesday, October 31, 2007—8 a.m. Until the Conclusion of Business

The Subcommittee will meet with representatives of the NRC Staff, Westinghouse Electric Corporation (W ), and the AP1000 Design Centered Working Group (DCWG) to discuss the AP1000 design, proposed revisions to 10 CFR Part 52 Appendix D, issues to be resolved collectively for Combined License (COL) applicants referencing the AP1000 certified design by the AP1000 DCWG, and issues that will be resolved on a plant-specific basis by COL applicants. The Subcommittee will hear presentations by and hold discussions with representatives of the NRC staff, W, the AP1000 DCWG, and other interested persons regarding this matter. The Subcommittee will gather information, analyze relevant issues and facts, and formulate proposed positions and actions, as appropriate, for deliberation by the full Committee.

Members of the public desiring to provide oral statements and/or written comments should notify the Designated Federal Officer, David C. Fischer (telephone 301/415-6889) 5 days prior to the meeting, if possible, so that appropriate arrangements can be made. Electronic recordings will be permitted. Detailed procedures for the conduct of and participation in ACRS meetings were published in the Federal Register on September 26, 2007 (72 FR 54695).

Further information regarding this meeting can be obtained by contacting the Designated Federal Officer between 7:15 a.m. and 4 p.m. (ET). Persons planning to attend this meeting are urged to contact the above named individual at least two working days prior to the meeting to be advised of any potential changes to the agenda.

Dated: October 10, 2007.
Cayetano Santos,
Chief, Reactor Safety Branch.

[FR Doc. E7-20432 Filed 10-15-07; 8:45 am]

BILLING CODE 7590-01-P